DEPARTMENT OF ENERGY

Federal Energy Regulatory Commission

Notice of Application Tendered for Filing With the Commission, Soliciting Additional Study Requests, and Establishing Procedures for Relicensing and a Deadline for Submission of Final Amendments

February 20, 2002.

Take notice that the following hydroelectric application has been filed with the Commission and is available for public inspection.

a. Type of Application: New Minor License.

b. Project No.: 6418-007.

c. Date Filed: February 12, 2002.

d. Applicant: Judith A. Burford.

e. Name of Project: A J Allen Power Plant.

f. Location: On East Brush Creek, a tributary of the Eagle River, in Eagle County, Colorado. The project occupies 1.008 acres of land within the White River National Forest.

g. Filed Pursuant to: Federal Power Act, 16 U.S.C. 791 (a)-825(r).

h. Applicant Contact: J Richard Allen, 5401 East Dakota Avenue # 21, Denver, Colorado 80426, Tel. # (303) 333-1339.

i. FERC Contact: Gaylord W. Hoisington, (202) 219-2756 or gaylord.hoisington@FERC.gov.

j. Deadline for filing additional study request: April 15, 2002.

All documents (original and eight copies) should be filed with: Magalie R. Salas, Secretary, Federal Energy Regulatory Commission, 888 First Street, NE, Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests may be filed electronically via the Internet in lieu of paper. See 18 CFR 385.2001(a)(1)(iii) and the instructions on the Commission's web site (http://www.ferc.gov) under the “e-Filing” link.

k. This application is not ready for environmental analysis at this time.

l. The existing A J Allen Project consists of: (1) An 8-inch-diameter 970-foot-long steel pipeline; (2) a rock pile diversion structure; (3) a gate valve just upstream of the turbine; (4) a 9-foot by 11-foot concrete and wood powerhouse containing a Pelton impulse turbine having a rated capacity of 8-kilowatts; (5) a 5-volt 112-foot-long transmission line; and (6) other appurtenances.

m. A copy of the application is available for inspection. This filing may also be viewed on the web at http://www.ferc.gov using the “RIMS” link-select “Docket #” and follow the instructions (call 202-208-2222 for assistance). A copy is also available for inspection and reproduction at the address in item h above.

n. With this notice, we are initiating consultation with the COLORADO STATE HISTORIC PRESERVATION OFFICER (SHPO), as required by § 106, National Historic Preservation Act, and the regulations of the Advisory Council on Historic Preservation, 36 CFR 800.4.

o. Procedural schedule and final amendments: The application will be processed according to the following milestones, some of which may be combined to expedite processing:

Notice of application has been accepted for filing

Notice of application is ready for environmental analysis

Notice of the availability of the NEPA document

Order issuing the Commission's decision on the application

Final amendments to the application must be filed with the Commission no later than 30 days from the issuance date of the notice of ready for environmental analysis.

Magalie R. Salas,
Secretary.

[FR Doc. 02-4574 Filed 2-26-02; 8:45 am]

BILLING CODE 6717-01-P